DEPARTMENT OF TRANSPORTATION

Federal Aviation Administration

14 CFR Part 39

[Docket No. 2003-SW-24-AD; Amendment 39-13423; AD 2004-01-09]

RIN 2120-AA64

Airworthiness Directives; Eurocopter France Model AS355E, F, F1, F2, and N Helicopters

AGENCY: Federal Aviation Administration, DOT.

ACTION: Final rule.

SUMMARY: This amendment adopts a new airworthiness directive (AD) for the specified Eurocopter France (ECF) model helicopters that requires revising the Limitations section of the Rotorcraft Flight Manual (RFM) to prohibit using the landing light except for landing and takeoff until the 40 amp 10P1 and 10P2 contactors are replaced with 50 amp circuit breakers. Also, this amendment requires upgrading the electrical master boxes. This amendment is prompted by three reports of complete loss of electrical power generating systems, except for the direct battery power, due to a combination of high outside temperature and long flight duration with the landing light on that causes the nontemperature compensated trip switches to prematurely trip. The actions specified by this AD are intended to prevent failure of the helicopter power generator systems, loss of the use of flight instruments, and subsequent loss of control of the helicopter.

DATES: Effective February 13, 2004.

The incorporation by reference of certain publications listed in the regulations is approved by the Director of the Federal Register as of February 13, 2004.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Carroll Wright, Aviation Safety Engineer, FAA, Rotorcraft Directorate, Regulations and Guidance Group, Fort Worth, Texas 76193-0111, telephone (817) 222-5120, fax (817) 222-5961.

SUPPLEMENTARY INFORMATION: A proposal to amend 14 CFR part 39 to include an AD for the specified ECF model helicopters was published in the Federal Register on September 18, 2003 (68 FR 54688). That action proposed to require temporarily revising the Limitations section of the RFM to prohibit use of the landing light except for landing and takeoff by making pen and ink changes or adding a copy of the AD to the RFM. Also proposed was, within 6 months, or before the next instrument flight rule (IFR) flight, whichever occurs first, replacing nontemperature compensated 40-amp contactors 10P1 and 10P2 with temperature compensated 50-amp circuit breakers.

The Direction Generale De L'Aviation Civile (DGAC), the airworthiness authority for France, notified the FAA that an unsafe condition may exist on the specified ECF model helicopters. The DGAC advises of three reports of complete electrical power failure, except direct battery power, that occurred during flights with high outside air temperature (above 25 degrees Celsius) and use of the landing light for more than 1 hour. The failures were due to the disengagement of 40-ampere (amp) contactors (trip switches MP 1648) in the electrical power systems below their nominal threshold. These trip switches are not temperature compensated and accordingly may trip based on the internal temperature of the electrical master boxes.

Eurocopter has issued Service Telex No. 25.00.63, dated August 2, 2000 (Telex), specifying to not use the landing light outside the landing and takeoff phases and Alert Service Bulletin AS 355, No. 24.00.14, dated November 28, 2002, specifying an upgrade of the electrical master boxes on or before August 1, 2003. The DGAC classified these service bulletins as mandatory and issued AD Nos. 2000-339-060(A), dated August 23, 2000; 2000-339-060(A) R1, dated September 6, 2000; and 2000-339-060(A) R2, dated December 24, 2002, to ensure the continued airworthiness of these helicopters in France.

These helicopter models are manufactured in France and are type certificated for operation in the United States under the provisions of 14 CFR 21.29 and the applicable bilateral airworthiness agreement. Pursuant to this bilateral airworthiness agreement, the DGAC has kept the FAA informed of the situation described above. The FAA has examined the findings of the DGAC, reviewed all available information, and determined that AD action is necessary for products of these type designs that are certificated for operation in the United States.

Interested persons have been afforded an opportunity to participate in the making of this amendment. No comments were received on the proposal or the FAA's determination of the cost to the public. The FAA has determined that air safety and the public interest require the adoption of the rule as proposed.

The FAA estimates that this AD will:

• Affect 442 helicopters of U.S. registry,

• Take ½ work hour per helicopter to add information to the Limitations section of the RFM, and

• Take 4 hours to upgrade the electrical boxes.

The average labor rate is $65 per work hour. The required parts will cost approximately $1707. Based on these figures, the total cost impact of the AD on U.S. operators is estimated to be $883,779.

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-01-09 Eurocopter France: Amendment 39-13423. Docket No. 2003-SW-24-AD.

Applicability: Model AS355E, F, F1, F2, and N helicopters, certificated in any category.

Compliance: Required as indicated, unless accomplished previously.

To prevent failure of the electrical power generating systems, loss of the use of flight instruments, and subsequent loss of control of the helicopter, accomplish the following:

(a) Before further flight and until you replace the circuit breakers in accordance with paragraph (b) of this AD, revise the Limitations section of the Rotorcraft Flight Manual (RFM) to prohibit use of the landing light except for the landing and takeoff phases of flight by making pen and ink changes, or inserting a copy of this AD into the Limitations section of the RFM.

Note 1: Eurocopter France Service Telex 25.00.63, dated August 2, 2000, pertains to the subject of this AD.

(b) Within 6 months or before the next instrument flight rule (IFR) operation, whichever occurs first, upgrade the electrical master boxes and replace the nontemperature compensated 40-amp contactors (circuit breakers) 10P1 and 10P2 with temperature compensated 50-amp circuit breakers, part number P/N 84-306-050 (B) or 5TC50-50 (C), in accordance with the Accomplishment Instructions, paragraph 2.B, of Eurocopter Alert Service Bulletin AS355, No. 24.00.14, dated November 28, 2002.

(c) To request a different method of compliance or a different compliance time for this AD, follow the procedures in 14 CFR 39.19. Contact the Manager, Safety Management Group, Rotorcraft Directorate, FAA, for information about previously approved alternative methods of compliance.

(d) Modifying the electrical master boxes and replacing the nontemperature compensated 40-amp contractors (circuit breakers) must be done in accordance with Eurocopter Alert Service Bulletin AS 355, No. 24.00.14, dated November 28, 2002. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on February 13, 2004.

Note 2: The subject of this AD is addressed in Direction Generale De L'Aviation Civile (France) ADs 2000-339-060(A) dated August 23, 2000; 2000-339-060(A) R1, dated September 6, 2000; and 2000-339-060(A) R2, dated December 24, 2002.

Issued in Fort Worth, Texas, on December 23, 2003.
Kim Smith,
Acting Manager, Rotorcraft Directorate, Aircraft Certification Service.

[FR Doc. 04-268 Filed 1-8-04; 8:45 am]

BILLING CODE 4910-13-P